DEPARTMENT OF HEALTH AND HUMAN SERVICES

Centers for Disease Control and Prevention

[60Day-05-05CV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of 911 Emergency Treatment for Heart Disease and Stroke —New—National Center for Chronic Disease Prevention and Health Promotion (NCCDPHP), Centers for Disease Control and Prevention (CDC).

Background and Brief Description

The purpose of this project is to enhance CDC's understanding of emergency medical services (EMS) administration and oversight, identify important stakeholders for partnering and cooperation, and gather data on heart disease and stroke emergency treatment protocols in use. This project will fill an important gap in CDC's understanding of heart disease and stroke emergency medical care by providing detailed information from a sample of EMS organizations on operational resources, configurations of certification levels, treatment protocols and performance measures, and other significant issues at a local and state level in 9 states (FL, MA, KS, MT, NM, PA, OR, SC, AR), in order to ultimately contribute to the development and implementation of best practices for emergency treatment of heart disease and stroke.

The objectives of the data collection are to prepare a comprehensive description of the “state of the practice” of pre-hospital emergency medical services related to cardiac and stroke care. This will include organizational and administrative aspects of EMS at state, sub-state district, and local levels, major public and private stakeholders in the conduct of EMS, technical support issues, and practices related to positive outcomes in pre-hospital cardiac and stroke emergency care. Data analysis will include a compilation of the practices in use and comparison of organizational and administrative configurations.

Data collection includes: (1) A telephone survey with a random sample of 250 local EMS agency supervisors (total N=2,250) in each of 9 States on the status of capabilities represented and treatment protocols used in EMS organizations related to cardiac and stroke care; (2) in-person interviews with state level EMS officials (e.g., State EMS Director, State EMS Medical Director, or public health agency representative) (N=18) who are involved in policy and practice of the EMS system in the state and, (3) telephone interviews with a purposive sample five sub-state level EMS officials (e.g., county or district directors) (N=45) in each of the 9 states to examine responsibilities and objectives at a sub-state level for the state's EMS system.

There are no costs to the respondents other than their time.

Estimate of Annualized Burden Hours
Respondents | Number of respondents | Number of responses per respondent | Average burden per response (in hrs) | Total burden hours
Survey of Local Level EMS agencies in nine states | 2,250 | 1 | 15/60 | 563
Survey of State Level EMS Directors/State Medical Directors in 9 states | 18 | 1 | 1 | 18
Survey of Sub-state (district/county) EMS officials in 9 states | 45 | 1 | 45/60 | 34
Total |  |  |  | 615

Dated: August 30, 2005.
Joan F. Karr,
Acting Reports Clearance Officer, Centers for Disease Control and Prevention.

[FR Doc. 05-17766 Filed 9-7-05; 8:45 am]

BILLING CODE 4163-18-P